ELECTION ASSISTANCE COMMISSION

11 CFR 9430

Debt Collection

AGENCY: United States Election Assistance Commission (EAC).

ACTION: Final rule.

SUMMARY: The Debt Collection Act requires federal agencies to either adopt existing regulations or promulgate its own regulations governing the collection of debts owed to the federal government. The U.S. Election Assistance Commission (EAC) is a federal agency, and has decided to implement the regulations jointly issued by the Treasury Department and the Department of Justice entitled Federal Claims Collection Standards by cross referencing these regulations as discussed in this rule.

DATES: This rule is effective on June 12, 2009.

FOR FURTHER INFORMATION CONTACT: Tamar Nedzar, Attorney, U.S. Election Assistance Commission, 1225 New York Avenue, NW., Suite 1100, Washington, DC 20005. Telephone (202) 566-3100.

SUPPLEMENTARY INFORMATION:

Preamble Table of Contents

The following is an outline of the preamble.

I. Legal Basis for the Rulemaking

II. Discussion of the Rulemaking

III. Rulemaking Analyses and Notices

I. Legal Basis for the Rulemaking

This rulemaking action is taken in response to the Debt Collection Act, as amended, 31 U.S.C. 3701, et seq. The Debt Collection Act requires federal agencies to either adopt existing regulations or promulgate its own regulations governing the collection of debts owed to the federal government. U.S. Election Assistance Commission (EAC) is a federal agency, and has decided to implement the regulations jointly issued by the Treasury Department and the Department of Justice, at 31 CFR parts 900-904. The EAC is also reserving additional sections in 11 CFR part 9430 for possible supplemental debt collection regulations specific to EAC's unique grant programs.

II. Discussion of the Rulemaking

The United States Election Assistance Commission was created by Congress in the Help America Vote Act of 2002. The Commission's primary function is to serve as a national clearinghouse and resource for information on and procedures for federal elections. The EAC conducts studies on election administration and makes those studies available to the public. The EAC also has adopted Voluntary Voting System Guidelines; administers a voting system testing and certification program; allocates election-related federal funding to the States; and carries out administrative duties under the National Voter Registration Act of 1993 (the Motor Voter Law), including developing and maintaining a mail voter registration application form for elections to federal office.

The EAC is committed to administering funds in a financially responsible manner. To implement this goal, pursuant to 31 U.S.C. 3716(b), the EAC is cross-referencing existing regulations governing the collection of debts owed to the federal government.

III. Regulatory Analyses and Notices

Regulatory Flexibility Act, as Amended

The Regulatory Flexibility Act, as amended by the Small Business Regulatory Enforcement Fairness Act (SBREFA) of 1996 (5 U.S.C. 601 et seq.) generally requires an agency to prepare a regulatory flexibility analysis of any rule subject to notice and comment rulemaking requirements under the APA or any other statute, unless the agency certifies that the rule will not have a significant economic impact on a substantial number of small entities. Small entities include small businesses, small organizations, and small government jurisdictions. The EAC certifies that this rulemaking is not subject to notice and comment under the APA, and as a result, no regulatory flexibility analysis is required.

Unfunded Mandates Reform Act of 1995

The Unfunded Mandates Reform Act of 1995 (Pub. L. 104-4; 2 U.S.C. 1532) requires each agency to assess the effects of its regulatory actions on State, local, and tribal governments and the private sector. Any agency promulgating a rule likely to result in a federal mandate requiring expenditures by a State, local, or tribal government or by the private sector of $120.7 million or more in any one year must prepare a written statement incorporating various assessments, estimates, and descriptions that are delineated in the Act. The EAC has determined that this action would create no unfunded mandates because it requires no expenditures by a State, local, or tribal government and will not have an impact of $120.7 million or more in any one year.

Congressional Review Act

The Congressional Review Act, 5 U.S.C. 801 et seq., as added by SBREFA, provides that before a rule may take effect, the agency promulgating the rule must submit a rule report, which includes a copy of the rule, to each House of the Congress and to the Comptroller General of the United States. If the rule meets the definition of a major rule, as defined in SBREFA, the Comptroller General must provide a report to Congress and the rule may not take effect until 60 days after it has been published in the Federal Register. The current action is a Final Rule that does not meet the definition of a major rule. The EAC is submitting the necessary rule report to the Congress and the Comptroller General of the United States.

National Environmental Policy Act

The EAC analyzed these rules for the purpose of the National Environmental Policy Act of 1969 (NEPA) (42 U.S.C. 4321 et seq.) and determined that this action includes no circumstances that would have any effect on the quality of the environment. These rules pertain solely to the collection of debts owed to the federal government. Thus, these actions do not require an environmental assessment or an environmental impact statement.

Paperwork Reduction Act

The Paperwork Reduction Act of 1995 (44 U.S.C. 3507(d)) requires the EAC to consider the impact of paperwork and other information collection burdens imposed on the public. This action does not impose any reporting or recordkeeping requirements. It pertains solely to the collection of debts owed to the federal government.

Executive Order 12630 (Taking of Private Property)

This action would not affect a taking of private property or otherwise have taking implications under Executive Order 12630, “Governmental Actions and Interference with Constitutionally Protected Property Rights.”

Executive Order 12988 (Civil Justice Reform)

This action meets applicable standards in sections 3(a) and 3(b)(2) of Executive Order 12988, “Civil Justice Reform,” to minimize litigation, eliminate ambiguity, and reduce burden.

Executive Order 13045 (Protection of Children)

Executive Order 13045, “Protection of Children from Environmental Health Risks and Safety Risks” (April 23, 1997, 62 FR 19885), requires that agencies issuing economically significant rules, which also concern an environmental health or safety risk that an agency has reason to believe may disproportionately affect children, must include an evaluation of the environmental health and safety effects of the regulation on children. Section 5 of Executive Order 13045 directs an agency to submit for a covered regulatory action an evaluation of its environmental health or safety effects on children. The EAC has determined that these rules are not covered regulatory actions as defined under Executive Order 13045. This determination is based upon the fact that this action is not economically significant under Executive Order 12866, because the changes proposed would not have an impact of $100 million or more in any one year, and do not constitute an environmental health risk or safety risk that would disproportionately affect children.

Executive Order 12372 (Intergovernmental Review)

The regulations implementing Executive Order 12372 regarding intergovernmental consultation on federal programs and activities do not apply to this rulemaking.

Executive Order 13211 (Energy Supply, Distribution, or Use)

The EAC has analyzed this action under Executive Order 13211, “Actions Concerning Regulations That Significantly Affect Energy Supply, Distribution, or Use.” This proposal is not a significant energy action within the meaning of section 4(b) of the Executive Order. This rule involves internal procedures of the collection of debts owed to the federal government, is not economically significant, and will not have a significant adverse effect on the supply, distribution, or use of energy.

List of Subjects 11 CFR Part 9430

Administrative practice and procedure, Debts, Claims.

In consideration of the foregoing, EAC amends title 11, Code of Federal Regulations, chapter II, by adding Part 9430 to read as follows:

PART 9430—DEBT COLLECTION

Sec.
9430.1 Cross-reference to executive branch-wide debt collection regulations
9430.2 [Reserved]
9430.3 [Reserved]
9430.4 [Reserved]
9430.5 [Reserved]

Authority: 31 U.S.C. 3716(b); 31 U.S.C. 3711(d)(2); 31 CFR parts 900-904,

§ 9430.1 Cross-reference to executive branch-wide debt collection regulations.

The U.S. Election Assistance Commission adopts the regulations at 31 CFR parts 900-904, governing administrative collection, offset, compromise, and the suspension or termination of collection activity for civil claims for money, funds, or property, as defined by 31 U.S.C. 3701(b).

§ 9430.2 [Reserved]

§ 9430.3 [Reserved]

§ 9430.4 [Reserved]

§ 9430.5 [Reserved]

Thomas R. Wilkey,
Executive Director, U.S. Election Assistance Commission.

[FR Doc. E9-13859 Filed 6-11-09; 8:45 am]

BILLING CODE 6820-KF-P